DEPARTMENT OF LABOR

Office of the Secretary

Submission for OMB Review: Comment Request

October 26, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: New collection of information.

Title: CPS Disability Questions Test.

OMB Number: 1220-0NEW.

Frequency: One time.

Type of Response: Reporting.

Affected Public: Individuals or households.

Number of Respondents: 21,000.

Number of Annual Responses: 21,000.

Estimated Time Per Response: 2 minutes.

Total Burden Hours: 700.

Total Annualized capital/startup costs: $0.

Total Annual Costs (operating/maintaining systems or purchasing services): $0.

Description: The Current Population Survey (CPS) Disability Questions Test will gather information on the disability status of CPS respondents. The BLS will use the data to assess the effectiveness of new questions designed to identify persons with disabilities within the context of the CPS. Additionally, the BLS will be able to evaluate the effect that adding these questions to the CPS on a monthly basis will have on that survey's response rates. Other groups who may find these data to be of interest include veterans groups, educational associations, and disability advocacy groups.

Because the Disability Questions Test is part of the CPS, the same detailed demographic information collected in the CPS will be available on respondents to the Test. Data concerning disabled persons will be possible across characteristics such as sex, race, age, and educational attainment of the respondent.

Ira L. Mills,
Departmental Clearance Officer.

[FR Doc. 05-21841 Filed 11-1-05; 8:45 am]

BILLING CODE 4510-24-P